ENVIRONMENTAL PROTECTION AGENCY

40 CFR Parts 438

[FRL-7213-7]

RIN 2040-AB79

Effluent Limitations Guidelines, Pretreatment Standards, and New Source Performance Standards for the Metal Products and Machinery Point Source Category; Announcement of Meeting

AGENCY: Environmental Protection Agency (EPA).

ACTION: Proposed rule; announcement of meeting.

SUMMARY: EPA will conduct a public meeting on the upcoming Metal Products and Machinery (MP&M) Notice of Data Availability.

The Office of Science and Technology within EPA's Office of Water is holding the public meeting to inform all interested parties of the status of the MP&M effluent guidelines. EPA intends to finalize effluent limitations guidelines and standards for the Metal Products and Machinery Point Source Category in December 2002. At the meeting, EPA will report on the status of the rulemaking; new data and information available for public comment; revised economic and engineering models and methodologies used for estimating costs, pollutant loads, benefits, and economic impacts; revised limitations and standards; compliance alternatives we developed based on new information; and specific areas where EPA is seeking further comment.

EPA will also use this meeting to ask for informal public comment on any of the issues or information presented in the upcoming NODA and in the Administrative Record supporting that notice. The meeting does not include a pretreatment hearing nor will EPA record the meeting for the Administrative Record. The meeting is open to the public, and limited seating is available on a first-come, first-served basis. For information on the location, see the Addresses section below.

DATES: EPA will conduct the MP&M public meeting on Friday, June 7, 2002, from 1 p.m. to 4 p.m. Central Standard Time.

ADDRESSES: The MP&M public meeting will be held at the EPA Region 5 Offices, 77 West Jackson Boulevard, Room 331, Chicago, IL 60604.

FOR FURTHER INFORMATION CONTACT: For additional information, call Mr. Carey A. Johnston at (202) 566-1014 or send him an e-mail at johnston.carey@epa.gov.

SUPPLEMENTARY INFORMATION: On January 3, 2001 (66 FR 424), EPA proposed technology-based effluent limitations guidelines and standards under the Clean Water Act (33 U.S.C. 1251 et. seq.) for the Metal Products and Machinery Point Source Category. You can find additional information on these proposed effluent guidelines at: http://www.epa.gov/waterscience/guide/mpm.

No meeting materials will be distributed in advance of the public meeting; all materials will be distributed at the meeting. If you need special accommodations at this meeting, such as wheelchair access or special audio-visual needs, you should contact Ms. Krista Durlas, (312) 886-3894, at least five business days before the meeting so that we can make appropriate arrangements. You can also use the EPA Region 5 website (www.epa.gov/region5/visitor/index.htm) for further information on directions, lodging, and transportation. Those who are unable to attend the meeting can get a copy of the presentation and meeting materials after the meeting by making an e-mail or telephone request to Mr. Carey A. Johnston, see the FOR FURTHER INFORMATION CONTACT section above.

Dated: May 14, 2002.
Geoffrey H. Grubbs,
Director, Office of Science and Technology.

[FR Doc. 02-12706 Filed 5-20-02; 8:45 am]

BILLING CODE 6560-50-P